DEPARTMENT OF STATE

[Public Notice 7993]

Culturally Significant Objects Imported for Exhibition Determinations: “Extravagant Inventions: The Princely Furniture of the Roentgens,” Formerly Titled “Seductive Luxury and Innovation: The Furniture of Abraham and David Roentgen”

ACTION: Notice, correction.

SUMMARY: On August 29, 2011, notice was published on page 53705 of the Federal Register (volume 76, number 167) of determinations made by the Department of State pertaining to the exhibition “Seductive Luxury and Innovation: The Furniture of Abraham and David Roentgen.” The referenced notice is corrected here to change the exhibition name to “Extravagant Inventions: The Princely Furniture of the Roentgens” and to include additional objects as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the additional objects to be included in the exhibition “Extravagant Inventions: The Princely Furniture of the Roentgens,” imported from abroad for temporary exhibition within the United States, are of cultural significance. The additional objects are imported pursuant to loan agreements with the foreign owners or custodians. I also determine that the exhibition or display of the additional exhibit objects at The Metropolitan Museum of Art, New York, NY, from on or about October 29, 2012, until on or about January 27, 2013, and at possible additional exhibitions or venues yet to be determined, is in the national interest. At the conclusion of the exhibition at The Metropolitan Museum of Art, three of the works will continue to be displayed at The Metropolitan Museum of Art until on or about January 31, 2014. I have ordered that Public Notice of these Determinations be published in the Federal Register.

FOR FURTHER INFORMATION CONTACT: For further information, including a list of the additional exhibit objects, contact Julie Simpson, Attorney-Adviser, Office of the Legal Adviser, U.S. Department of State (telephone: 202-632-6467). The mailing address is U.S. Department of State, SA-5, L/PD, Fifth Floor (Suite 5H03), Washington, DC 20522-0505.

Dated: August 17, 2012.
J. Adam Ereli,
Principal Deputy Assistant Secretary, Bureau of Educational and Cultural Affairs, Department of State.

[FR Doc. 2012-20894 Filed 8-23-12; 8:45 am]

BILLING CODE 4710-05-P